DEPARTMENT OF LABOR

Employment and Training Administration

[TA-W-56,458]

The Arthur G. Russell Company, Incorporated, Bristol, CT; Notice of Termination of Investigation

Pursuant to section 221 of the Trade Act of 1974, as amended, an investigation was initiated on February 1, 2005, in response to a worker petition filed by a company official on behalf of workers at the Arthur G. Russell Company, Incorporated, Bristol, Connecticut.

The petitioner has requested that the petition be withdrawn. Consequently, the investigation has been terminated.

Signed in Washington, DC, this 2nd day of March, 2005.
Linda G. Poole,
Certifying Officer, Division of Trade Adjustment Assistance.

[FR Doc. E5-1139 Filed 3-15-05; 8:45 am]

BILLING CODE 4510-30-P